OFFICE OF THE UNITED STATES TRADE REPRESENTATIVE

Generalized System of Preferences (GSP): Notice Regarding the Acceptance of Product and Country Practice Petitions for the 2007 Annual Review

AGENCY: Office of the United States Trade Representative.

ACTION: Notice.

SUMMARY: The Office of the United States Trade Representative (USTR) received petitions in connection with the 2007 GSP Annual Review to modify the list of products that are eligible for duty-free treatment under the GSP program and to modify the GSP status of certain GSP beneficiary developing countries because of country practices. This notice announces the product petitions, other than those requesting competitive need limitation (CNL) waivers, and country practice petitions that are accepted for further review in the 2007 GSP Annual Review. This notice also sets forth the schedule for comment and public hearings on these petitions, for requesting participation in the hearings, and for submitting pre-hearing and post-hearing briefs. The list of accepted petitions is available at: http://www.ustr.gov/Trade_Development/Preference_Programs/GSP/Section_Index.html [2007 Annual review]. Petitions for CNL waivers are due November 16, 2007 (see 72 FR 28,527), and a review of those petitions will be conducted thereafter.

FOR FURTHER INFORMATION CONTACT: Contact the GSP Subcommittee of the Trade Policy Staff Committee, Office of the United States Trade Representative, 1724 F Street, NW., Room F-220, Washington, DC 20508. The telephone number is (202) 395-6971.

DATES: The GSP regulations (15 CFR part 2007) provide the schedule of dates for conducting an annual review unless otherwise specified in a Federal Register notice. The current schedule follows. Notification of any other changes will be given in the Federal Register.

September 21, 2007: Due date for submission of pre-hearing briefs and requests to appear at the GSP Subcommittee Public Hearing that include the name, address, telephone, fax, e-mail address and organization of witnesses for accepted product petitions.

October 3, 2007: GSP Subcommittee Public Hearing on all product petitions accepted for the 2007 GSP Annual Review in Rooms 1 and 2, 1724 F Street, NW., Washington, DC 20508, beginning at 9:30 a.m.

October 4, 2007: GSP Subcommittee Public Hearing, for all country practice petitions accepted for the 2007 GSP Annual Review in Rooms 1 and 2, 1724 F Street, NW., Washington, DC 20508, beginning at 9:30 a.m.

October 19, 2007: Due date for submission of post-hearing briefs.

January 2007: USITC scheduled to publish report on products of cases 2007-01 to 2007-11 in the 2007 GSP Annual Review. Comments on the USITC report on these products are due 10 days after USITC date of publication.

June 30, 2007: Modifications to the list of articles eligible for duty-free treatment under the GSP resulting from the 2007 Annual Review will be announced on or about June 30, 2007, in the Federal Register, and any changes will take effect on the effective date announced.

SUPPLEMENTARY INFORMATION: The GSP provides for the duty-free importation of designated articles when imported from designated beneficiary developing countries. The GSP is authorized by title V of the Trade Act of 1974 (19 U.S.C. 2461, et seq.), as amended (the “1974 Act”), and is implemented in accordance with Executive Order 11888 of November 24, 1975, as modified by subsequent Executive Orders and Presidential Proclamations.

A. Petitions Requesting Modifications of Product Eligibility

In a Federal Register notice dated May 21, 2007, USTR announced that the deadline for the filing of product petitions, other than those requesting waivers of “competitive need limitations” (CNLs), and country practice petitions for the 2007 GSP Annual Review was June 22, 2007 (72 FR 28527). The product petitions received have requested changes in the list of GSP-eligible products by adding new products and by removing duty-free treatment for products from specific GSP-eligible countries.

The interagency GSP Subcommittee of the Trade Policy Staff Committee (TPSC) has reviewed the product petitions, and the TPSC has decided to accept for review the product petitions listed in “List of Petitions Accepted in the 2007 GSP Annual Review” posted on the USTR Web site. That list sets forth, for each type of change requested: the case number, the Harmonized Tariff Schedule of the United States (HTSUS) subheading number, a brief description of the product (see the HTSUS for an authoritative description available on the USITC Web site (http://www.usitc.gov/tata/hts/) and the petitioner for each petition included in this review). Acceptance of a petition for review does not indicate any opinion with respect to the disposition on the merits of the petition. Acceptance indicates only that the listed petitions have been found eligible for review by the TPSC and that such review will take place.

B. Petitions for Review Regarding Country Practices

Pursuant to 15 CFR 2007.0(b), the GSP Subcommittee of the TPSC has recommended, and the TPSC has accepted or continued the review of several country practice petitions (see “List of Petitions Accepted in the 2007 GSP Annual Review” posted on the USTR Web site). Acceptance of a petition for review does not indicate any opinion with respect to the disposition on the merits of the petition. Acceptance indicates only that the petition has been found eligible for review by the TPSC and that such review will take place.

Opportunities for Public Comment and Inspection of Comments

The GSP Subcommittee of the TPSC invites comments in support of or in opposition to any petition that has been accepted thus far for the 2007 GSP Annual Review. Submissions should comply with 15 CFR part 2007, except as modified below. All submissions should identify the subject article(s) in terms of the case number and eight digit HTSUS subheading number, if applicable, as shown in the “List of Petitions Accepted in the 2007 GSP Annual Review” available at: http://www.ustr.gov/Trade_Development/Preference_Programs/GSP/Section_Index.html [2007 Annual Review].

Requirements for Submissions

In order to facilitate prompt processing of submissions, USTR requires electronic e-mail submissions in response to this notice. Hand-delivered submissions will not be accepted. These submissions should be single-copy transmissions in English, with the total submission not to exceed 30 single-spaced standard letter-size pages in 12-point type and three megabytes as sent as a digital file attached to an e-mail transmission. E-mail submissions should use the following subject line: “2007 GSP Annual Review” followed by the Case Number and, if a product petition, the eight-digit HTSUS subheading number found in the “List of Petitions Accepted in the 2007 GSP Annual Review” on the USTR Web site (for example, 2007-05 7202.99.20) and, as appropriate “Written Comments”, “Notice of Intent to Testify”, “Pre-hearing brief”, “Post-hearing brief” or “Comments on USITC Advice”. (For example, an e-mail subject line might read “2007-05 7202.99.20 Written Comments”.) Documents must be submitted in English in one of the following formats: WordPerfect (.WPD), Adobe (.PDF), MSWord (.DOC), or text (.TXT) files. Documents cannot be submitted as electronic image files or contain embedded images, e.g., “.JPG”, “.TIF”, “.BMP”, or “.GIF”. Supporting documentation submitted as spreadsheets are acceptable as Excel files, formatted for printing on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each page of the document. The non-confidential version must also be clearly marked at the top and bottom of each page (either “PUBLIC VERSION” or “NON-CONFIDENTIAL”). Documents that are submitted without any marking might not be accepted or will be considered public documents.

For any document containing business confidential information submitted as an electronic attached file to an e-mail transmission, the file name of the business confidential version should begin with the characters “BC-”, and the file name of the public version should begin with the characters “P-”. The “P-” or “BC-” should be followed by the name of the party (government, company, union, association, etc.) which is making the submission.

E-mail submissions should not include separate cover letters or messages in the message area of the e-mail; information that might appear in any cover letter should be included directly in the attached file containing the submission itself, including the sender's name, organization name, address, telephone number and e-mail address. The e-mail address for these submissions is FR0711@USTR.EOP.GOV. Documents not submitted in accordance with these instructions might not be considered in this review. If unable to provide submissions by e-mail, please contact the GSP Subcommittee to arrange for an alternative method of transmission.

Public versions of all documents relating to this review will be available for review approximately two weeks after the relevant due date by appointment in the USTR public reading room, 1724 F Street NW., Washington, DC. Appointments may be made from 9:30 a.m. to noon and 1 p.m. to 4 p.m., Monday through Friday, by calling (202) 395-6186.

Notice of Public Hearing

A hearing will be held by the GSP Subcommittee of the TPSC on October 3, 2007, for product petitions accepted for the 2007 GSP Annual Review (i.e., for product petitions other than those requesting CNL waivers) beginning at 9:30 a.m. at the Office of the U.S. Trade Representative, Rooms 1 and 2, 1724 F St., NW., Washington, DC 20508. A second hearing will be held by the GSP Subcommittee of the TPSC on October 5, 2007 for country practice petitions in the 2007 GSP Annual Review. The hearings will be open to the public and a transcript of the hearings will be made available for public inspection or can be purchased from the reporting company. No electronic media coverage will be allowed.

All interested parties wishing to make an oral presentation at the hearing must submit, following the above “Requirements for Submissions”, the name, address, telephone number, and facsimile number and email address, if available, of the witness(es) representing their organization to Marideth Sandler, Executive Director of the GSP Program by 5 p.m., September 21, 2007. Requests to present oral testimony in connection with the public hearing must be accompanied by a written brief or statement, in English, and also must be received by 5 p.m., September 21, 2007. Oral testimony before the GSP Subcommittee will be limited to five-minute presentations that summarize or supplement information contained in briefs or statements submitted for the record. Post-hearing briefs or statements will be accepted if they conform with the regulations cited above and are submitted, in English, by 5 p.m., October 19, 2007. Parties not wishing to appear at the public hearing may submit pre-hearing briefs or statements, in English, by 5 p.m., September 21, 2007, and post-hearing written briefs or statements, in English, by 5 p.m., October 19, 2007.

In accordance with sections 503(d)(1)(A) of the 1974 Act and the authority delegated by the President, pursuant to section 332(g) of the Tariff Act of 1930, the U.S. Trade Representative has requested that the USITC provide its advice on the probable economic effect on U.S. industries producing like or directly competitive articles and on consumers of the elimination of U.S. import duties for all GSP beneficiary countries or, where applicable, the probable economic effect on U.S. industries producing like or directly competitive articles and on consumers of the removal from eligibility for duty-free status under GSP for such article from the specified countries, with respect to the articles that are specified in the “List of Petitions Accepted in the 2007 GSP Annual Review.” Comments by interested persons on the USITC Report prepared as part of the product review other than those requesting CNL waivers should be submitted by 5 p.m., 10 days after the date of USITC publication of its report.

Marideth Sandler,
Executive Director, Generalized System of Preferences (GSP) Program, Office of the U.S. Trade Representative.

[FR Doc. E7-17614 Filed 9-5-07; 8:45 am]

BILLING CODE 3190-W7-P